DEPARTMENT OF HEALTH AND HUMAN SERVICES

Administration for Children and Families

Proposed Information Collection Activity; Formative Evaluation of the Demonstration Grants To Strengthen the Response to Victims of Human Trafficking in Native Communities Program (New Collection)

AGENCY: Office of Planning, Research, and Evaluation, Administration for Children and Families, Department of Health and Human Services.

ACTION: Request for public comments.

SUMMARY: The Administration for Children and Families (ACF) is proposing a new data collection activity for the Formative Evaluation of the Demonstration Grants to Strengthen the Response to Victims of Human Trafficking in Native Communities (VHT-NC) Program. The overarching goals of the formative evaluation are to understand the context in which the VHT-NC projects are implemented, the projects' goals, and the paths they take to achieve their goals. The proposed data collection will include semi-structured interviews with project staff, project participants, and key partners.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: In 2020, ACF's Office on Trafficking in Persons issued six VHT-NC demonstration grants to fund projects to build, expand, and sustain organizational and community capacity to deliver services to Native Americans (i.e., American Indians, Alaska Natives, Native Hawaiians, and/or Pacific Islanders) who have experienced human trafficking through the provision of direct services, assistance, and referrals. The purpose of the proposed data collection is to obtain a comprehensive understanding of the VHT-NC projects and their communities, including implementation strengths and challenges. A primary aim is to conduct a participatory and culturally responsive formative evaluation that is informed by and respects the knowledge, values, and traditions of the communities implementing the VHT-NC projects.

The proposed data collection will include semi-structured interviews with VHT-NC project staff, project participants (adults who have received assistance from the VHT-NC project), and key project partners. Interviews with project staff and partners will be conducted individually or, if appropriate and requested by respondents, in small groups. Interview topics will include community context, project goals and design, organizational and staff characteristics, partnerships, outreach and identification approaches, case management and service provision, survivor engagement, and community training. Interviews with project participants will be conducted individually. Participant interviews will focus on the project services and assistance received by participants, including those most helpful to healing and recovery.

Respondents: Respondents include VHT-NC project staff (e.g., project directors, project coordinators, case managers/advocates, specialized services staff), project participants (adults who have received assistance from the VHT-NC project), and key project partner staff.

Annual Burden Estimates
Instrument | Number of respondents (total over request period) | Number of responses per respondent (total over request period) | Avg. burden per response (in hours) | Total/annual burden (in hours)
Project leadership interview | 18 | 1 | 1.5 | 27
Direct services staff interview | 24 | 1 | 1.25 | 30
Participant interview | 30 | 1 | 1 | 30
Partner interview | 36 | 1 | 1.25 | 45

Estimated Total Annual Burden Hours: 132.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 105(d)(2) of the Trafficking Victims Protection Act of 2000 (Pub. L. 106-386) [22 U.S.C. 7103].

Mary B. Jones,
ACF/OPRE Certifying Officer.

[FR Doc. 2022-19796 Filed 9-13-22; 8:45 am]

BILLING CODE 4184-47-P